DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with August anniversary dates. In accordance with the Department's regulations, we are initiating those administrative reviews.

DATES: Effective October 14, 2016.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with August anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than August 31, 2017.

| Period to be reviewed
Antidumping Duty Proceedings
Italy: Granular Polytetrafluorethylene Resin,⁴ A-475-703 | 8/1/15-7/18/16
Polis S.r.l.
Malaysia: Polyethylene Retail Carrier Bags, A-557-813 | 8/1/15-7/31/16
Euro SME Sdn Bhd
Mexico: Light-Walled Rectangular Pipe and Tube, A-201-836 | 8/1/15-7/31/16
Productos Laminados de Monterrey S.A. de C.V. LSIS Co., Ltd.
Republic of Korea: Certain Steel Nails,⁵ A-580-874 | 12/29/14-6/30/16
Linyi Double Moon Hardware Products Co., Ltd. Tianjin M&C Electronics Co., Ltd.
Republic of Korea: Large Power Transformers, A-580-867 | 8/1/15-7/31/16
Hyosung Corporation
Hyundai Heavy Industries Co., Ltd.
ILJIN
Iljin Electric Co., Ltd.
Romania: Carbon and Alloy Seamless Standard, Line and Pressure Pipe (under 4 ½ inches), A-485-805 | 8/1/15-7/31/16
S.C. Silcotub S.A.
Socialist Republic of Vietnam: Frozen Fish Fillets, A-552-801 | 8/1/15-7/31/16
An Giang Agriculture and Food Import-Export Joint Stock Company (also known as
An Giang Fisheries Import and Export Joint Stock Company (also known as Agifish or
AnGiang Fisheries Import and Export)
An My Fish Joint Stock Company (also known as Anmyfish or Anmyfishco)
An Phat Seafood Co. Ltd. (also known as An Phat Import-Export Seafood Co., Ltd.)
An Phu Seafood Corporation (also known as ASEAFOOD or An Phu Seafood Corp.)
Anvifish Joint Stock Company (ANVIFISH)
Asia Commerce Fisheries Joint Stock Company (also known as Acomfish JSC or Acomfish)
Asia Pangasius Company Limited
Basa Joint Stock Company (BASACO)
Ben Tre Aquaproduct Import and Export Joint Stock Company (also known as Bentre Aquaproduct, Bentre Aquaproduct Import & Export Joint Stock Company or Aquatex Bentre)
Bentre Forestry and Aquaproduct Import Export Joint Stock Company (also known as
Ben Tre Forestry and Aquaproduct Import-Export Company or Ben Tre Forestry Aquaproduct Import-Export Company or Ben Tre Frozen Aquaproduct Export Company or Faquimex)
Bien Dong Seafood Company Ltd. (also known as Bien Dong, Bien Dong Seafood, Bien Dong Seafood Co., Ltd., or Biendong Seafood Co., Ltd.)
Binh An Seafood Joint Stock Company (also known as Binh An or Binh An Seafood Joint Stock Co.)
C.P. Vietnam Corporation
Cadovimex II Seafood Import-Export and Processing Joint Stock Company (also known as Cadovimex II or Cadovimex II Seafood Import-Export)
Cafatex Corporation (also known as Cafatex)
Can Tho Animal Fishery Products Processing Export Enterprise (also known as Cafatex)
Cantho Import-Export Seafood Joint Stock Company (also known as CASEAMEX, Can Tho Import-Export Seafood Joint Stock Company, Cantho Import-Export Joint Stock Company, or Can Tho Import-Export Joint Stock Company)
Cuu Long Fish Import-Export Corporation (also known as CL Panga Fish)
Cuu Long Fish Joint Stock Company (also known as CL-Fish or Cuu Long Fish Joint Stock Company)
Da Nang Seaproducts Import-Export Corporation (also known as Da Nang)
Dai Thanh Seafoods (also known as DATHACO or Dai Thanh Seafoods Co., Ltd.)
East Sea Seafoods LLC (also known as ESS LLC, ESS, East Sea Seafoods Limited Liability Company, East Sea Seafoods Joint Venture Co., Ltd.)
Europe Joint Stock Company
Fatifish Company Limited (also known as FATIFISH)
GODACO Seafood Joint Stock Company (also known as GODACO or GODACO Seafood J.S.C.)
Golden Quality Seafood Corporation (also known as Golden Quality, GOLDENQUALITY, or GoldenQuality, Seafood Corporation)
Green Farms Seafood Joint Stock Company (also known as Green Farms, GreenFarm SeaFoods Joint Stock Company or Green Farms Seafoods Joint Stock Company).
Hai Huong Seafood Joint Stock Company (also known as HHFish, HH Fish, or Hai Huong Seafood)
Hiep Thanh Seafood Joint Stock Company (also known as Hiep Thanh or Hiep Thanh Seafood Joint Stock Co.)
Hoa Phat Seafood Import-Export and Processing J.S.C. (also known as HOPAFISH or Hoa Phat Seafood Import-Export and Processing Joint Stock Company)
Hoang Long Seafood Processing Company Limited (also known as HLS, Hoang Long Seafood, or Hoang Long Seafood Processing Co., Ltd.)
Hung Vuong Corporation (Hung Vuong)
Hung Vuong Joint Stock Company
Hung Vuong Mascato Company Limited
Hung Vuong Seafood Joint Stock Company
Hung Vuong-Sa Dec Co., Ltd.
Hung Vuong-Vinh Long Co., Ltd.
Lian Heng Investment Co., Ltd. (also known as Lian Heng or Lian Heng Investment)
Lian Heng Trading Co., Ltd. (also known as Lian Heng or Lian Heng Trading)
Nam Viet Corporation (also known as NAVICO)
Ngoc Ha Co. Ltd. Food Processing and Trading (also known as Ngoc Ha or Ngoc Ha Co., Ltd. Foods Processing and Trading)
Nha Trang Seafoods, Inc. (also known as Nha Trang Seafoods-F89, Nha Trang Seafoods, or Nha Trang Seaproduct Company)
NTSF Seafoods Joint Stock Company (also known as NTSF or NTSF Seafoods)
Quang Minh Seafood Company Limited (also known as Quang Minh, Quang Minh Seafood Co., Ltd., or Quang Minh Seafood Co.)
QVD Dong Thap Food Co., Ltd. (also known as Dong Thap)
QVD Food Company, Ltd. (also known as QVD)
Saigon-Mekong Fishery Co., Ltd. (also known as SAMEFICO or Saigon Mekong Fishery Co., Ltd.)
Seafood Joint Stock Company No. 4 Branch Dongtam Fisheries Processing Company (also known as DOTASEAFOODCO or Seafood Joint Stock Company No. 4—Branch Dong Tam Fisheries Processing Company)
Southern Fishery Industries Company, Ltd. (also known as South Vina, South Vina Co., Ltd., or Southern Fisheries Industries Company, Ltd.)
Sunrise Corporation
TG Fishery Holdings Corporation (also known as TG)
Thuan An Production Trading and Service Co., Ltd. (also known as TAFISHCO, Thuan An Production Trading and Services Co., Ltd., or Thuan An Production & Trading Service Co., Ltd.)
Thuan Hung Co., Ltd. (also known as THUFICO)
To Chau Joint Stock Company (also known as TOCHAU)
Van Duc Food Export Joint Stock Company
Van Duc Tien Giang Food Export Company
Viet Hai Seafood Company Limited (also known as Viet Hai or Vietnam Fish-One Co., Ltd.)
Viet Phu Foods & Fish Co., Ltd.
Viet Phu Foods and Fish Corporation (also known as Vietphu, Viet Phu, Viet Phu Food and Fish Corporation, or Viet Phu Food & Fish Corporation)
Vinh Hoan Corporation (also known as Vinh Hoan or Vinh Hoan Co.)
Vinh Quang Fisheries Corporation (also known as Vinh Quang, Vinh Quang Fisheries Joint-Stock Company, or Vinh Quang Fisheries Co., Ltd.)
Thailand: Polyethylene Retail Carrier Bags, A-549-821 | 8/1/15-7/31/16
Apple Film Company, Ltd.
Dpac Inter Corporation Co., Ltd.
Elite Poly and Packaging Co., Ltd.
Film Master Co., Ltd.
Inno Cargo Co., Ltd.
Innopack Industry Co., Ltd.
K. International Packaging Co., Ltd.
King Bag Co., Ltd.
King Pac Industrial Co., Ltd.
Landblue (Thailand) Co., Ltd.
M & P World Polymer Co., Ltd.
Minigrip (Thailand) Co., Ltd.
Multibax Public Co., Ltd.
Naraipak Co., Ltd.
PMC Innopack Co., Ltd.
Poly Plast (Thailand) Co., Ltd.
Poly World Co., Ltd.
Prepack Thailand Co., Ltd.
Print Master Co., Ltd.
Sahachit Watana Plastic Ind. Co., Ltd.
Siam Best Products Trading Limited Partnership
Sun Pack Inter Co., Ltd.
Super Grip Co., Ltd.
Superpac Corporation Co., Ltd.
Thai Origin Co., Ltd.
Thantawan Industry Public Co., Ltd.
Triple B Pack Co.,Ltd.
Two Path Plaspack Co. Ltd.
Wing Fung Adhesive Manufacturing (Thailand) Co., Ltd.
The People's Republic of China: Certain Steel Nails, A-570-909 | 8/1/15-7/31/16
Aironware (Shanghai) Co., Ltd.
Certified Products Taiwan Inc.
Chiieh Yung Metal Ind. Corp.
Dezhou Hualude Hardware Products Co., Ltd.
Faithful Engineering Products Co., Ltd.
Hebei Cangzhou New Century Foreign Trade Co., Ltd.
Hebei Minmetals Co., Ltd.
Huanghua Xionghua Hardware Products Co., Ltd.
Mingguang Ruifeng Hardware Products
Nanjing Caiqing Hardware Co., Ltd.
Nanjing Toua Hardware & Tools Co., Ltd.
Qingdao D&L Group Ltd.
SDC International Aust. PTY. LTD.
SDC International Australia Pty Ltd.
Shandong Dinglong Import & Export Co., Ltd.
Shandong Oriental Cherry Hardware Group Co., Ltd.
Shandong Oriental Cherry Hardware Import & Export Co., Ltd.
Shandong Qingyun Hongyi Hardware Products Co., Ltd.
Shanghai Curvet Hardware Products Co., Ltd.
Shanghai Yueda Nails Industry Co., Ltd.
Shanxi Hairui Trade Co., Ltd.
Shanxi Pioneer Hardware Industrial
Shanxi Tianli Industries Co., Ltd.
S-Mart (Tianjin) Technology Development Co., Ltd. Suntec Industries Co., Ltd.
The Stanley Works (Langfang) Fastening Systems Co., Ltd.
Tianjin Jinchi Metal Products Co., Ltd.
Tianjin Jinghai County Hongli Industry & Business Co., Ltd.
Tianjin Lianda Group Co., Ltd.
Tianjin Universal Machinery Imp. & Exp. Corp.
Tianjin Zhonglian Metals Ware Co., Ltd.
Xi'An Metals Minerals Imp & Exp Co., Ltd.
The People's Republic of China: Passenger Vehicle and Light Truck Tires, A-570-016 | 1/27/15-7/31/16
Actyon Tyre Resource Co., Limited
American Pacific Industries, Inc.
BC Tyre Group Limited
Best Choice International Trade Co., Limited
Briway Tire Co., Ltd.
Cheng Shin Tire & Rubber (China) Co., Ltd.
Cooper (Kunshan) Tire Co., Ltd.
Cooper Chengshan (Shandong) Tire Co., Ltd.
Cooper Tire & Rubber Company
Crown International Corporation
Dynamic Tire Corp.
Fleming Limited
Giti Radial Tire (Anhui) Company Ltd.
Giti Tire (Fujian) Company Ltd.
Giti Tire (Hualin) Company Ltd.
Giti Tire (USA) Ltd.
Giti Tire Global Trading Pte. Ltd.
Guangrao Taihua International Trade Co., Ltd.
Guangzhou Pearl River Rubber Tyre Ltd.
Hankook Tire China Co., Ltd.
Haohua Orient International Trade Ltd.
Hebei Tianrui Rubber Co., Ltd.
Highpoint Trading, Ltd.
Hong Kong Tiancheng Investment & Trading Co., Limited
Hong Kong Tri-Ace Tire Co., Limited
Hongtyre Group Co.
Husky Tire Corp.
Hwa Fong Rubber (Hong Kong) Ltd.
ITG Voma Corporation
Jiangsu Hankook Tire Co., Ltd.
Jilin Jixing Tire Co., Ltd.
Jinyu International Holding Co., Limited
Kenda Rubber (China) Co., Ltd.
Koryo International Industrial Limited
Kumho Tire Co., Inc.
Liaoning Permanent Tyre Co., Ltd.
Macho Tire Corporation Limited
Mayrun Tyre (Hong Kong) Limited
Maxo Int'l Co., Limited
Nankang (Zhangjiagang Free Trade Zone) Rubbber Industrial Co., Ltd.
Pirelli Tyre Co., Ltd.
Prinx Chengshan (Shandong) Tire Co., Ltd.
Qingdao Crown Chemical Co., Ltd.
Qingdao Free Trade Zone Full-World International Trading Co., Ltd.
Qingdao Fullrun Tyre Corp. Ltd.
Qingdao Fullrun Tyre Tech Corp., Ltd.
Qingdao Goalstar Tire Co., Ltd.
Qingdao Honghua Tyre Factory
Qingdao Jinhaoyang International Co., Ltd.
Qingdao Keter International Co., Limited
Qingdao Lakesea Tyre Co., Ltd.
Qingdao Nama Industrial Co., Ltd.
Qingdao Nexen Tire Corporation
Qingdao Odyking Tyre Co., Ltd.
Qingdao Qianzhen Tyre Co., Ltd.
Qingdao Qihang Tyre Co., Ltd.
Qingdao Qizhou Rubber Co., Ltd.
Qingdao Sentury Tire Co., Ltd.
Qingzhou Detai International Trading Co., Ltd.
Riversun Industry Limited
Roadclaw Tyre (Hong Kong) Limited
Safe&Well (HK) International Trading Limited
Sailun Group Co., Ltd. (aka Saliun Jinyu Group Co., Ltd.)
Sailun Tire International Corp.
Saliun Jinyu Group (Hong Kong) Co., Limited
Seatex International Inc.
Seatex PTE. Ltd.
Shandong Anchi Tyres Co., Ltd.
Shandong Changfeng Tyres Co., Ltd.
Shandong Changhong Rubber Tech
Shandong Duratti Rubber Corporation Co., Ltd.
Shandong Good Forged Alum Wheel
Shandong Guofeng Rubber Plastics Co., Ltd.
Shandong Haohua Tire Co., Ltd.
Shandong Haolong Rubber Tire Co., Ltd.
Shandong Hawk International Rubber Industry Co., Ltd.
Shandong Hengyu Science & Technology Co., Ltd.
Shandong Huitong Tyre Co., Ltd.
Shandong Jinyu Industrial Co., Ltd.
Shandong Linglong Tyre Co., Ltd.
Shandong Longyue Rubber Co., Ltd.
Shandong New Continent Tire Co., Ltd.
Shandong Province Sanli Tire Manufactured Co., Ltd.
Shandong Sangong Rubber Co., Ltd.
Shandong Shuangwang Rubber Co., Ltd.
Shandong Wanda Boto Tyre Co., Ltd.
Shandong Yongtai Group Co., Ltd. (formerly known as Shandong Yongtai Chemical Co., Ltd.)
Shandong Yonking Rubber Co., Ltd.
Shandong Zhongyi Rubber Co., Ltd.
Shangong Ogreen International Trade Co., Ltd.
Shengtai Group Co., Ltd.
Shifeng Juxing Tire Co., Ltd.
Shounguang Firemax Tyre Co., Ltd.
Southeast Mariner International Co., Ltd.
Techking Tires Limited
Toyo Tire (Zhangjiagang) Co., Ltd.
Triangle Tyre Co., Ltd.
Tyrechamp Group Co., Limited
Wanli Group Trade Limited
Weihai Ping'an Tyre Co., Ltd.
Weihai Zhongwei Rubber Co., Ltd.
Wendeng Sanfeng Tyre Co., Ltd.
Windforce Tyre Co., Limited
Winrun Tyre Co., Ltd.
Xiamen Sunrise Wheel Group Co., Ltd.
Xiamen Topu Import
Zenith Holdings (HK) Limited
Zhaoqing Junhong Co., Ltd.
Zhejiang Jingu Company Limited
Zhejiang Qingda Rubber Co., Ltd.
The People's Republic of China: Polyethylene Retail Carrier Bags, A-570-886 | 8/1/15-7/31/16
Dongguan Nozawa Plastics Products Co., Ltd. and United Power Packaging, Ltd. (collectively Nozawa)
The People's Republic of China: Tow-Behind Lawn Groomers and Parts Thereof, A-570-939 | 8/1/15-7/31/16
Jiashan Superpower Tools Co., Ltd.
Ukraine: Silicomanganese, A-823-805 | 8/1/14-7/31/15
PJSC Nikopol Ferroalloy Plant
PJSC Zaporozhye Ferrolloy Plant
Countervailing Duty Proceedings
The People's Republic of China: Passenger Vehicle and Light Truck Tires, C-570-017 | 12/1/14-12/31/15
American Pacific Industries, Inc.
BC Tyre Group Limited
Best Choice International Trade Co., Limited
Cooper (Kunshan) Tire Co., Ltd.
Crown International Corporation
Dynamic Tire Corp.
Fleming Limited
Giti Radial Tire (Anhui) Company Ltd.
Giti Tire (Fujian) Company Ltd.
Giti Tire (Hualin) Company Ltd.
Giti Tire (USA) Ltd.
Giti Tire Global Trading Pte. Ltd.
Guangrao Taihua International Trade Co., Ltd.
Guangzhou Pearl River Rubber Tyre Ltd.
Haohua Orient International Trade Ltd.
Hong Kong Tiancheng Investment & Trading Co., Limited
Husky Tire Corp.
Jilin Jixing Tire Co., Ltd.
Jinyu International Holding Co., Limited
Kenda Rubber (China) Co., Ltd.
Liaoning Permanent Tyre Co., Ltd.
Macho Tire Corporation Limited
Maxon Int'l Co., Limited
Qingdao Crown Chemical Co., Ltd.
Qingdao Goalstar Tire Co., Ltd.
Qingdao Jinhaoyang International Co., Ltd.
Qingdao Keter International Co., Limited
Qingdao Lakesea Tyre Co., Ltd.
Qingdao Nama Industrial Co., Ltd.
Qingdao Odyking Tyre Co., Ltd.
Qingdao Sentury Tire Co., Ltd.
Qingzhou Detai International Trading Co., Ltd.
Riversun Industry Limited
Safe&Well (HK) International Trading Limited
Sailun Jinyu Group Co., Ltd.,
Sailun Jinyu Group (Hong Kong) Co., Limited
Sailun Tire International Corp.
Seatex International Inc.
Shandong Anchi Tyres Co., Ltd.
Shandong Changhong Rubber Technology Co., Ltd.
Shandong Guofeng Rubber Plastics Co., Ltd.
Shandong Haohua Tire Co., Ltd.
Shandong Hawk International Rubber Industry Co., Ltd.
Shandong Hengyu Science & Technology Co., Ltd.
Shandong Jinyu Industrial Co., Ltd.
Shandong Linglong Tyre Co., Ltd.
Shandong Longyue Rubber Co., Ltd.
Shandong New Continent Tire Co., Ltd.
Shandong Province Sanli Tire Manufactured Co., Ltd.
Shandong Wanda Boto Tyre Co., Ltd.
Shandong Yongtai Group Co., Ltd. (formerly known as Shandong Yongtai Chemical Co., Ltd.)
Shandong Zhongyi Rubber Co., Ltd.
Shangong Shuangwang Rubber Co., Ltd.
Shengtai Group Co., Ltd.
Shouguang Firemax Tyre Co., Ltd.
Southeast Mariner International Co., Ltd.
Tyrechamp Group Co., Limited
Windforce Tyre Co., Limited
Winrun Tyre Co., Ltd.
Zhaoqing Junhong Co., Ltd.
Zhongce Rubber Group Company Limited
Suspension Agreements
None
⁴ On August 11, 2016, the Department revoked the antidumping duty order on Granular Polytetrafluorethylene Resin from Italy, effective July 18, 2016. See: Granular Polytetrafluorethylene Resin from Italy: Final Results of Sunset Review and Revocation of Antidumping Duty Order (81 FR 53119).
⁵ The companies listed above were misspelled in the initiation notice that published on September 12, 2016 (81 FR 62720). The correct spelling of the companies names are listed in this notice.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁶ Parties are hereby reminded that revised certification requirements are in effect for company/government officials as well as their representatives. All segments of any antidumping duty or countervailing duty proceedings initiated on or after August 16, 2013, should use the formats for the revised certifications provided at the end of the Final Rule.⁷ The Department intends to reject factual submissions in any proceeding segments if the submitting party does not comply with applicable revised certification requirements.

⁶ See section 782(b) of the Act.

⁷ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: October 6, 2016.
Christian Marsh,
Deputy Assistant Secretary, for Antidumping and Countervailing Duty Operations.

[FR Doc. 2016-24809 Filed 10-13-16; 8:45 am]

BILLING CODE 3510-DS-P